ENVIRONMENTAL PROTECTION AGENCY

[EPA-HQ-OPP-2024-0061; FRL-11680-10-OCSPP]

Pesticide Product Registration; Receipt of Applications for New Uses (October 2024)

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before January 6, 2025.

ADDRESSES: Submit your comments, identified by docket identification (ID) number EPA-HQ-OPP-2024-0061, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Charles Smith, Registration Division (RD) (7505T), main telephone number: (202) 566-1030, email address: RDFRNotices@epa.gov. The mailing address is Office of Pesticide Programs, Environmental Protection Agency, 1200 Pennsylvania Ave. NW, Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

Notice of Receipt—New Uses

1. EPA Registration Number: 264-1220. Docket ID number: EPA-HQ-OPP-2024-0518. Applicant: Bayer CropScience, 800 N Lindbergh Blvd., St. Louis, MO 63167. Active ingredient: Mesotrione. Product type: Herbicide. Proposed use: Mesotrione-resistant Soybean. Contact: RD.

2. EPA Registration Numbers: 524-473, 524-591, and 66478-1. Docket ID number: EPA-HQ-OPP-2024-0491. Applicant: Bayer CropScience LP, 700 Chesterfield Parkway West, Chesterfield, MO 63017. Active ingredient: Acetochlor. Product type: Herbicide. Proposed use: Rapeseed Subgroup 20A and pennycress seed. Contact: RD.

3. EPA Registration Numbers: 62719-80, 62719-81, and 62719-747. Docket ID number: EPA-HQ-OPP-2024-0421. Applicant: Corteva Agriscience, LLC, 9330 Zionsville Rd., Indianapolis, IN 46268. Active ingredient: Clopyralid. Product type: Herbicide. Proposed use: Hazelnut (filbert). Contact: RD.

4. EPA Registration Number: 71711-30, 71711-31, 71711-36, 71711-49, and 71711-56. Docket ID number: EPA-HQ-OPP-2024-0361. Applicant: Nichino America, Inc., 4550 Linden Hill Rd., Suite 501, Wilmington, DE 19808. Active ingredient: Tolfenpyrad. Product type: Insecticide. Proposed use: Vegetable, legume, bean, edible podded, subgroup 6-22A. Contact: RD.

5. EPA Registration Numbers: 7969-390 and 7969-391. Docket ID number: EPA-HQ-OPP-2024-0509. Applicant: BASF Corporation, 26 Davis Dr., Research Triangle Park, NC 27709. Active Ingredient: Afidopyropen. Product type: Insecticide. Proposed Use: Revision of existing afidopyropen tolerance in or on strawberry from 0.15 parts per million (ppm) to 0.3 ppm. Contact: RD.

Authority: 7 U.S.C. 136 et seq.

Dated: November 18, 2024.
Kimberly Smith,
Acting Director, Information Technology and Resources Management Division, Office of Program Support.

[FR Doc. 2024-28741 Filed 12-5-24; 8:45 am]

BILLING CODE 6560-50-P